DEPARTMENT OF DEFENSE

Office of the Secretary

[Transmittal No. 18-13]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-13 with attached Policy Justification and Sensitivity of Technology.

Dated: July 26, 2018.
Shelly E. Finke,
Alternate OSD Federal Register Liaison Officer, Department of Defense.

BILLING CODE 5001-06-P

BILLING CODE 5001-06-C

Transmittal No. 18-13

Notice of Proposed Issuance of Letter of Offer Pursuant to Section 36(b)(1) of the Arms Export Control Act, as amended

(i) Prospective Purchaser: Government of Germany

(ii) Total Estimated Value:

Major Defense Equipment * | $ .75 billion
Other | $ .65 billion
TOTAL | $1.40 billion

(iii) Description and Quantity or Quantities of Articles or Services under Consideration for Purchase:

Major Defense Equipment (MDE):

Three (3) C-130J-30 Aircraft with four (4) each Rolls Royce AE-2100D Turboprop Engines (installed)

Three (3) KC-130J Aircraft with four (4) each Rolls Royce AE-2100D Turboprop Engines (installed)

Four (4) Rolls Royce AE 2100D Turboprop Engines (spares)

Eight (8) Link-16 MIDS Terminals (one (1) per aircraft, plus two (2) spares)

Non-MDE: Also includes eight (8) AN/ALE 47 Electronic Countermeasure Dispensers (1 per aircraft, plus 2 spares); eight (8) AN/AAR-47A(V)2 Missile Warning Systems (1 per aircraft, plus spares); eight (8) AN/ALR-56M Radar Warning Receivers (1 per aircraft, plus 2 spares); eight (8) MX-20 Electro-Optical/Infrared Imaging Systems (1 per aircraft, plus 2 spares); AN/APX-114/119 Identification Friend or Foe (IFF) Mode 5; Joint Mission Planning System (JMPS); secure communications; precision navigation and cryptographic equipment; night vision devices; support and test equipment; publications and technical documentation; personnel training and training equipment; U.S. Government and contractor engineering; technical and logistics support services; and other related elements of logistical and program support.

(iv) Military Department: Air Force (GY-D-SUA)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 4, 2018

* As defined in Section 47(6) of the Arms Export Control Act.

POLICY JUSTIFICATION

Government of Germany—C-130J and KC-130J Aircraft

The Government of Germany has requested to buy three (3) C-130J-30 aircraft with four (4) each Rolls Royce AE-2100D turboprop engines (installed); three (3) KC-130J aircraft with four (4) each Rolls Royce AE-2100D turboprop engines (installed); four (4) Rolls Royce AE 2100D turboprop engines (spares); and eight (8) Link-16 MIDS Terminals (one (1) per aircraft, plus two (2) spares). Also includes eight (8) AN/ALE 47 Electronic Countermeasure Dispensers (1 per aircraft, plus 2 spares); eight (8) AN/AAR-47A(V)2 Missile Warning Systems (1 per aircraft, plus spares); eight (8) AN/ALR-56M Radar Warning Receivers (1 per aircraft, plus 2 spares); eight (8) MX-20 Electro-Optical/Infrared Imaging Systems (1 per aircraft, plus 2 spares); AN/APX-114/119 Identification Friend or Foe (IFF) Mode 5; Joint Mission Planning System (JMPS); secure communications; precision navigation and cryptographic equipment; night vision devices; support and test equipment; publications and technical documentation; personnel training and training equipment; U.S. Government and contractor engineering; technical and logistics support services; and other related elements of logistical and program support. The total estimated value is $1.40 billion.

This proposed sale will contribute to the foreign policy and national security of the United States by helping to improve the security of a NATO ally which is an important force for political and economic stability in Europe. The proposed sale will increase the airlift, air refueling, and air drop capabilities of the German Air Force. Providing these capabilities to the German Air Force will greatly increase interoperability between the U.S. Air Force and the German Air Force as well as other NATO allies.

The German Air Force will use these aircraft to conduct airlift, air refueling, and air drop missions as part of a French-German allied squadron based in Evreux, France. This common air transport squadron will have unrestricted exchange of aircraft, air crews, and maintainers, as well as technical and logistical support based on a common pool of spare parts and a common service support contract. These exchanges would be carried out pursuant to separate authorizations from the United States. The C-130Js will provide crucial air refueling capability to German and French fighter and light transport aircraft, as well as helicopters. Germany requests these capabilities to provide for the support of its deployed troops, regional security, and interoperability with France and the United States. Germany will have no difficulty absorbing these aircraft into its armed forces.

The proposed sale of this equipment and support will not alter the basic military balance in the region.

The prime contractor will be Lockheed Martin, Ft Worth, TX. There are no known offset agreements proposed in connection with this potential sale.

Implementation of this proposed sale may require multiple trips but no long-term stationing for U.S. contractor representatives to Germany and potentially deployed locations to provide initial launch recovery, and maintenance support.

There will be no adverse impact on U.S. defense readiness as a result of this proposed sale.

Transmittal No. 18-13

Notice of Proposed Issuance of Letter of Offer Pursuant to Section 36(b)(1) of the Arms Export Control Act

Annex

Item No. vii

(vii) Sensitivity of Technology:

1. The C-130J Hercules with Rolls Royce AE 2100D Turboprop Engines is a military airlift aircraft that performs primarily the tactical portion of the airlift mission. The aircraft is capable of operating from rough, dirt strips and is the prime transport for air dropping troops and equipment into hostile areas. The C-130J improvements over the C-130E include improved maximum speed, climb time, cruising altitude and range. The C-130J has 55 feet of cargo compartment length,—an additional 15 feet over the original “short” aircraft. Hardware is UNCLASSIFIED. Technical data and documentation to be provided is UNCLASSIFIED.

2. The KC-130J is a tanker version of the C-130J Hercules aircraft modified to provide air-to-air refueling and assault-support. Hardware is UNCLASSIFIED. Technical data and documentation to be provided is UNCLASSIFIED.

3. Multifunctional Information Distribution System (MIDS) is an advanced Link-16 command, control, communications, and intelligence (C3I) system incorporating high-capacity, jam-resistant, digital communication links for exchange of near real-time tactical information, including both data and voice, among air, ground, and sea elements. The MIDS terminal hardware, publications, performance specifications, operational capability, parameters, vulnerabilities to countermeasures, and software documentation are classified CONFIDENTIAL. The classified information to be provided consists of that which is necessary for the operation, maintenance, and repair (through intermediate level) of the data link terminal, installed systems, and related software.

4. The AN/ALE-47 Counter-Measures Dispensing System (CMOS) is an integrated, threat-adaptive, software-programmable dispensing system capable of dispensing chaff, flares, and active radio frequency expendables. The threats countered by the CMOS include radar-directed anti-aircraft artillery (AAA), radar command-guided missiles, radar homing guided missiles, and infrared (IR) guided missiles. The system is internally mounted and may be operated as a stand-alone system or may be integrated with other on-board EW and avionics systems. The AN/ALE-47 uses threat data received over the aircraft interfaces to assess the threat situation and to determine a response. Expendable routines tailored to the immediate aircraft and threat environment may be dispensed using one of four operational modes. Hardware is UNCLASSIFIED. Technical data and documentation to be provided is UNCLASSIFIED.

5. The AN/AAR-47A(V)2 Missile Warning System is a small, lightweight, passive, electro-optic, threat warning device used to detect surface-to-air missiles fired at helicopters and low-flying fixed-wing aircraft and automatically provide countermeasures, as well as audio and visual-sector warning messages to the aircrew. The basic system consists of multiple Optical Sensor Converter (OSC) units, a Computer Processor (CP) and a Control Indicator (Cl). The set of OSC units, which normally consist of four, is mounted on the aircraft exterior to provide omni-directional protection. The OSC detects the rocket plume of missiles and sends appropriate signals to the CP for processing. The CP analyses the data from each OSC and automatically deploys the appropriate countermeasures. The CP also contains comprehensive BIT circuitry. The CI displays the incoming direction of the threat, so that the pilot can take appropriate action. Hardware is UNCLASSIFIED. Technical data and documentation to be provided is UNCLASSIFIED.

6. The AN/ALR-56M Advanced Radar Warning Receiver continuously detects and intercepts RF signals in certain frequency ranges and analyzes and separates threat signals from non-threat signals. It contributes to full-dimensional protection by providing individual aircraft probability of survival through improved aircrew situational awareness of the radar guided threat environment. The ALR-56M is designed to provide improved performance in a dense signal environment and improved detection of modern threats signals. Hardware is UNCLASSIFIED. Technical data and documentation to be provided is UNCLASSIFIED.

7. An AN/APX-114/119 Identification Friend or Foe (IFF) combined transponder interrogator system is UNCLASSIFIED unless Mode 4 or 5 operational evaluator parameters, which are SECRET, are loaded into the equipment.

8. Joint Mission Planning System (JMPS) is a multi-platform PC based mission planning system. JMPS hardware is UNCLASSIFIED but the software is classified up to SECRET.

9. This sale will involve the release of sensitive and/or classified cryptographic equipment for secure communications radios, precision navigation, and cryptographic appliques and keying equipment. The hardware is UNCLASSIFIED, except where systems are loaded with cryptographic software, which may be classified up to SECRET.

10. If a technologically advanced adversary were to obtain knowledge of the specific hardware and software elements, the information could be used to develop countermeasures that might reduce weapon system effectiveness or be used in the development of a system with similar or advanced capabilities.

11. A determination has been made that the recipient country can provide substantially the same degree of protection for the sensitive technology being released as the U.S. Government. This sale is necessary in furtherance of the U.S. foreign policy and national security objectives outlined in the Policy Justification.

12. All defense articles and services listed in this transmittal are authorized for release and export to the Government of Germany.

[FR Doc. 2018-16318 Filed 7-30-18; 8:45 am]

BILLING CODE 5001-06-P